FEDERAL COMMUNICATIONS COMMISSION

47 CFR Part 73

[DA 02-2818; MM Docket No. 01-224; RM-10101]

Radio Broadcasting Services; Shelbyville and LaVergne, TN

AGENCY: Federal Communications Commission.

ACTION: Final rule.

SUMMARY: The Commission, at the request of WYCQ, Inc., reallots Channel 275C1 from Shelbyville to LaVergne, Tennessee, as the community's first local aural transmission service, and modifies Station WBUZ(FM)'s license accordingly. See 66 FR 48107, September 18, 2001. Channel 275C1 can be reallotted to LaVergne in compliance with the Commision's minimum distance separation requirements at Station WBUZ(FM)'s presently authorized site. The coordinates for Channel 275C1 at LaVergne are 35-48-01 North Latitude and 86-37-17 West Longitude.

DATES: Effective December 9, 2002.

ADDRESSES: Federal Communications Commission, Washington, DC 20554.

FOR FURTHER INFORMATION CONTACT: Sharon P. McDonald, Media Bureau, (202) 418-2180.

SUPPLEMENTARY INFORMATION: This is a synopsis of the Commission's Report and Order, MM Docket No. 01-224, adopted October 16, 2002, and released October 25, 2002. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334 and 336.

§ 73.202 [Amended]

2. Section 73.202(b), the Table of FM Allotments under Tennessee, is amended by adding LaVergne, Channel 275C1 and by removing Shelbyville, Channel 275C1.

Federal Communications Commission.
John A. Karousos,
Assistant Chief, Audio Division, Media Bureau.

[FR Doc. 02-29237 Filed 11-18-02; 8:45 am]

BILLING CODE 6712-01-P